NUCLEAR REGULATORY COMMISSION

[Docket No. 63-001-HLW; NRC-2015-0051]

Department of Energy; Yucca Mountain, Nye County, Nevada; Correction

AGENCY: Nuclear Regulatory Commission.

ACTION: Draft supplement to environmental impact statements; extension of comment period, public meeting, and correction.

SUMMARY: On August 21, 2015, the U.S. Nuclear Regulatory Commission (NRC) requested public comment on NUREG-2184, the NRC staff's draft “Supplement to the U.S. Department of Energy's Environmental Impact Statement for a Geologic Repository for the Disposal of Spent Nuclear Fuel and High-Level Radioactive Waste at Yucca Mountain, Nye County, Nevada” (draft supplement). The public comment period was originally scheduled to close on October 20, 2015. The NRC staff has decided to extend the public comment period to allow more time for members of the public to develop and submit their comments. The NRC is also correcting its August 21, 2015, notice to correct a meeting date and Web site link.

DATES: The due date for comments on the draft supplement is extended. Comments should be filed no later than November 20, 2015. Comments received after this date will be considered, if it is practical to do so, but the Commission is able to ensure consideration only for comments received on or before this date.

The correction is effective September 18, 2015.

The NRC will hold a public meeting via teleconference to accept comments on the draft supplement on November 12, 2015, in addition to the teleconference being held on October 15, 2015. For additional information about this public meeting, see Section III, “Public Meetings,” of this document.

ADDRESSES: You may submit comments by any of the following methods (unless this document describes a different method for submitting comments on a specific subject):

• Federal Rulemaking Web site: Go to http://www.regulations.gov and search for Docket ID NRC-2015-0051. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Christine Pineda, Office of Nuclear Material Safety and Safeguards, U.S. Nuclear Regulatory Commission, Washington DC 20555-0001; telephone: 301-415-6789; email: YMEIS_Supplement@nrc.gov.

SUPPLEMENTARY INFORMATION:

I. Obtaining Information and Submitting Comments

A. Obtaining Information

Please refer to Docket ID NRC-2015-0051 when contacting the NRC about the availability of information for this action. You may obtain publicly-available information related to this action by any of the following methods:

• Federal rulemaking Web site: Go to http://www.regulations.gov and search for Docket ID NRC-2015-0051.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2015-0051 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

A. Comment Period Extension

On August 21, 2015 (80 FR 50875), the NRC requested public comments on NUREG-2184, the NRC staff's draft “Supplement to the U.S. Department of Energy's Environmental Impact Statement for a Geologic Repository for the Disposal of Spent Nuclear Fuel and High-Level Radioactive Waste at Yucca Mountain, Nye County, Nevada” (ADAMS Accession No. ML15223B243). The supplement evaluates the potential environmental impacts on groundwater and impacts associated with the discharge of any contaminated groundwater to the ground surface due to potential releases from a geologic repository for spent nuclear fuel and high-level radioactive waste at Yucca Mountain, Nye County, Nevada. This supplements the U.S. Department of Energy's 2002 “Final Environmental Impact Statement for a Geologic Repository for the Disposal of Spent Nuclear Fuel and High-Level Radioactive Waste at Yucca Mountain, Nye County, Nevada” (ADAMS Accession No. ML032690321), and 2008 “Final Supplemental Environmental Impact Statement for a Geologic Repository for the Disposal of Spent Nuclear Fuel and High-Level Radioactive Waste at Yucca Mountain, Nye County, Nevada” (ADAMS Accession No. ML081750191), in accordance with the findings and scope outlined in the NRC staff's 2008 “Adoption Determination Report for the U.S. Department of Energy's Environmental Impact Statements for the Proposed Geologic Repository at Yucca Mountain” (ADAMS Accession No. ML082420342). The public comment period was originally scheduled to close on October 20, 2015. The NRC received requests to extend the public comment period (e.g., ADAMS Accession Nos. ML15253A864 and ML15253A874) and the NRC staff has decided to extend the public comment period on the draft supplement until November 20, 2015, to allow more time for members of the public to develop and submit their comments.

B. Corrections

In the Federal Register on August 21, 2015, in FR Doc. 2015-20638, on page 50877, at the bottom of the second column, in the last two sentences of the notice, which (1) discuss how to obtain telephone numbers to participate in conference calls, and (2) provide the Web site link to obtain public meeting document information, correct “To receive the teleconference number and passcode for the September 3 meeting or for the October 6 conference call, call 301-415-6789 or email YMEIS_Supplement@nrc.gov. Meeting agendas and participation details will be available on the NRC's Public Meeting Schedule Web site at http://www.nrc.gov/publicinvolve/publicmeetings/index.cfm no later than 10 days prior to the meetings” to read “To receive the teleconference number and passcode for the September 3 meeting or for the October 15 conference call, call 301-415-6789 or email YMEIS_Supplement@nrc.gov. Meeting agendas and participation details will be available on the NRC's Public Meeting Schedule Web site at http://meetings.nrc.gov/pmns/mtg no later than 10 days prior to the meetings.”

III. Public Meetings

In addition to the public meetings announced previously, the NRC staff will hold another public meeting via teleconference to accept comments on the draft supplement on November 12, 2015, from 2:00 p.m. until 4:00 p.m. Eastern Time. The telephone number for this teleconference is 888-790-2936 and the passcode is 1715992. The same number and passcode should be used for the October 15, 2015, teleconference that was previously announced (see meeting information at http://meetings.nrc.gov/pmns/mtg).

This public teleconference will be transcribed. Persons interested in attending or presenting oral comments during this teleconference are encouraged to pre-register. Persons may pre-register to attend or present oral comments by calling 301-415-6789 or by emailing YMEIS_Supplement@nrc.gov no later than 3 days prior to the meeting. Individual oral comments may be limited by the time available, depending on the number of persons who register. If special equipment or accommodations are needed to attend or present information at a public meeting, the need should be brought to the NRC's attention no later than 10 days prior to the meeting to provide the NRC staff adequate notice to determine whether the request can be accommodated. The teleconference agenda and participation details will be available on the NRC's Public Meeting Schedule Web site at http://meetings.nrc.gov/pmns/mtg no later than 10 days prior to the meeting.

Dated at Rockville, Maryland, this 11th day of September 2015.
For the Nuclear Regulatory Commission.
Christine Pineda,
Senior Project Manager, Yucca Mountain Directorate, Office of Nuclear Material Safety and Safeguards.

[FR Doc. 2015-23510 Filed 9-17-15; 8:45 am]

BILLING CODE 7590-01-P